DEPARTMENT OF COMMERCE

National Oceanic and Atmospheric Administration

[RTID 0648-XC113]

Endangered Species; File No. 21233

AGENCY: National Marine Fisheries Service (NMFS), National Oceanic and Atmospheric Administration (NOAA), Commerce.

ACTION: Notice; receipt of application for a permit modification.

SUMMARY: Notice is hereby given that NMFS Southeast Fisheries Center (SEFSC), 75 Virginia Beach Drive, Miami, FL 33149 (Responsible Party: Mridula Srinivasan, Ph.D.), has requested a modification to scientific research Permit No. 21233-03.

DATES: Written, telefaxed, or email comments must be received on or before July 22, 2022.

ADDRESSES: The modification request and related documents are available for review by selecting “Records Open for Public Comment” from the Features box on the Applications and Permits for Protected Species (APPS) home page, https://apps.nmfs.noaa.gov, and then selecting File No. 21233 mod 7 from the list of available applications. These documents are also available upon written request via email to NMFS.Pr1Comments@noaa.gov.

Written comments on this application should be submitted via email to NMFS.Pr1Comments@noaa.gov. Please include File No. 21233 mod 7 in the subject line of the email comment.

Those individuals requesting a public hearing should submit a written request via email to NMFS.Pr1Comments@noaa.gov. The request should set forth the specific reasons why a hearing on this application would be appropriate.

FOR FURTHER INFORMATION CONTACT: Amy Hapeman or Erin Markin, (301) 427-8401.

SUPPLEMENTARY INFORMATION: The subject modification to Permit No. 21233-03, originally issued on August 7, 2018 (83 FR 47606), is requested under the authority of the Endangered Species Act of 1973, as amended (16 U.S.C. 1531 et seq.) and the regulations governing the taking, importing, and exporting of endangered and threatened species (50 CFR parts 222-226).

Permit No. 21233-03 authorizes the permit holder to study sea turtles in the Atlantic Ocean, Gulf of Mexico, and Caribbean Sea including international waters. Animals for study may be directly captured by hand, hoop net, pound net, seine, cast net, tangle net, or trawl or obtained for study from another legal source such as bycatch in a commercial fishery. Animals captured in pound nets may be exposed to a sound source. Researchers may examine, mark, image, collect morphometrics, collect a suite of biological samples, and attach transmitters to live sea turtles before release. A subset of these animals may also undergo hearing trials or laparoscopy and internal tissue sampling when transported and temporarily held in a facility before release. A small number of unintentional mortalities, and collection of these carcasses, for each species may result from capture activities. In addition, live animals may be harassed during vessel and aerial surveys for species counts and observation. The permit holder requests authorization to reallocate the annual take of 100 green (Chelonia mydas), 100 Kemp's ridley (Lepidochelys kempii), and 200 loggerhead (Caretta caretta) sea turtles from Table 1 to Table 2 of the permit so that takes to study animals that were legally captured under another authority instead may be used for the direct capture of these animals by trawl and attachment of satellite transmitters. Researchers will use the data to inform Deepwater Horizon restoration planning and assess the impacts and effectiveness of restoration activities in the northern Gulf of Mexico. The permit would remain valid until September 30, 2027.

Dated: June 16, 2022.
Julia M. Harrison,
Chief, Permits and Conservation Division, Office of Protected Resources, National Marine Fisheries Service.

[FR Doc. 2022-13331 Filed 6-21-22; 8:45 am]

BILLING CODE 3510-22-P